DEPARTMENT OF ENERGY

[OE Docket No. PP-362]

Notice of Availability for the Draft Environmental Impact Statement and Announcement of Public Hearings for the Proposed Champlain Hudson Power Express Transmission Line Project; Correction

AGENCY: U.S. Department of Energy.

ACTION: Notice of availability and public hearings; correction.

SUMMARY: The Department of Energy (DOE) published a document in the Federal Register of November 1, 2013, announcing the availability for the Draft Environmental Impact Statement and public hearings for the proposed Champlain Hudson Power Express transmission line project. This document corrects an error in that notice.

FOR FURTHER INFORMATION CONTACT: Requests for additional information should be directed to Brian Mills at Brian.Mills@hq.doe.gov.

Correction

In the Federal Register of November 1, 2013 in FR Doc. 2013-26080, 78 FR 65622, please make the following correction:

On page 65623, in the table, the third row is corrected to read:

Holiday Inn Albany Wolf Road | Tuesday, November 19, 2013, 6:00 p.m | 205 Wolf Rd., Albany, NY 12205.

Issued in Washington, DC, on November 5, 2013.
Brian Mills,
NEPA Compliance Officer, Office of Electricity Delivery and Energy Reliability.

[FR Doc. 2013-26983 Filed 11-8-13; 8:45 am]

BILLING CODE 6450-01-P